DEPARTMENT OF COMMERCE

International Trade Administration

[A-570-601]

Tapered Roller Bearings and Parts Thereof, Finished and Unfinished, From the People's Republic of China: Final Results of Antidumping Duty Administrative Review

AGENCY: Import Administration, International Trade Administration, Department of Commerce.

SUMMARY: On July 17, 2008, the Department of Commerce (“Department”) published its preliminary results in the antidumping duty administrative review of tapered roller bearings (“TRBs”) from the People's Republic of China (“PRC”). The period of review (“POR”) for the administrative review is June 1, 2006, through May 31, 2007. In the administrative review, we have determined that Peer Bearing Company Changshan (“respondent” or “CPZ”) made sales in the United States at prices below normal value. We invited interested parties to comment on our preliminary results in these reviews. Based on our analysis of the comments we received in the administrative review, we made certain changes to our calculations for all mandatory respondents. The final dumping margins for this review are listed in the “Final Results Margins” section below.

EFFECTIVE DATE: January 22, 2009.

FOR FURTHER INFORMATION CONTACT: Demitri Kalogeropoulos or Brendan Quinn, AD/CVD Operations, Office 8, Import Administration, International Trade Administration, U.S. Department of Commerce, 14th Street and Constitution Avenue, NW, Washington, DC 20230; telephone: (202) 482-2623 and (202) 482-5848, respectively.

SUPPLEMENTARY INFORMATION:

Background

The Department published its preliminary results on July 17, 2008. See Tapered Roller Bearings and Parts Thereof, Finished and Unfinished, from the People's Republic of China: Preliminary Results of Antidumping Duty Administrative Review, 73 FR 41033 (July 17, 2008) (“Preliminary Results”).

We received comments from the Timken Company (“Petitioner”) and CPZ. Interested parties submitted case and rebuttal briefs on August 26, 2008, and September 5, 2008, respectively. On November 21, 2008, the Department extended the deadline for the final results of review to January 13, 2009. See Tapered Roller Bearings and Parts Thereof, Finished and Unfinished, from the People's Republic of China; Extension of Time Limit for Final Results of the 2006-2007 Administrative Review, 73 FR 70619 (November 21, 2008). We invited parties to comment on the Preliminary Results. On December 9, 2008, the Department held a hearing with interested parties regarding issues raised in case and rebuttal briefs.

Analysis of Comments Received

All issues raised in the case and rebuttal briefs by parties in this review are addressed in the memorandum from Stephen J. Claeys, Deputy Assistant Secretary for Antidumping and Countervailing Duty Operations, to Ronald K. Lorentzen, Acting Assistant Secretary for Import Administration, “Tapered Roller Bearings from the People's Republic of China: Issues and Decision Memorandum for the Final Results of the 2006-2007 Administrative Review,” dated January 13, 2009, which is hereby adopted by this notice (“Issues and Decision Memorandum”). A list of the issues which parties raised and to which we respond in the Issues and Decision Memorandum is attached to this notice as an Appendix. The Issues and Decision Memorandum is a public document and is on file in the Central Records Unit (“CRU”), Main Commerce Building, Room 1117, and is accessible on the Web at http://ia.ita.doc.gov/frn. The paper copy and electronic version of the memorandum are identical in content.

Period of Review

The POR is June 1, 2006, through May 31, 2007.

Scope of the Order

Imports covered by this order are shipments of tapered roller bearings and parts thereof, finished and unfinished, from the PRC; flange, take up cartridge, and hanger units incorporating tapered roller bearings; and tapered roller housings (except pillow blocks) incorporating tapered rollers, with or without spindles, whether or not for automotive use. These products are currently classifiable under Harmonized Tariff Schedule of the United States (“HTSUS”) item numbers 8482.20.00, 8482.91.00.50, 8482.99.15, 8482.99.45, 8483.20.40, 8483.20.80, 8483.30.80, 8483.90.20, 8483.90.30, 8483.90.80, 8708.99.80.15 and 8708.99.80.80. Although the HTSUS item numbers are provided for convenience and customs purposes, the written description of the scope of the order is dispositive.

Changes Since the Preliminary Results

Based on an analysis of the comments received, the Department has made certain changes in the margin calculations. For the final results, the Department has made the following changes:

• We have treated CPZ's sale to the importer as the relevant sale for calculating dumping margins, and have calculated the margins on an export price basis (See Comment 1 and the memorandum titled “Peer Bearing Company Changshan, CPZ Final Results of Administrative Review: Program Analysis Memorandum, Tapered Roller Bearings and Parts Thereof, Finished and Unfinished from the People's Republic of China,” dated January 13, 2009 (“Analysis Memorandum”)).

• We have granted byproduct offsets for CPZ's sales of steel scrap (See Comment 2 and Analysis Memorandum).

• We are no longer using CPZ's reported control number to match U.S. sales to factors of production data. Instead we are using CPZ's reported product code (See Comment 3 and Analysis Memorandum).

• We have revised the surrogate value for roller steel scrap and cage steel scrap (See Comment 5 and the memorandum titled “Factors Valuations for the Final Results of the Administrative Review, Tapered Roller Bearings and Parts Thereof, Finished and Unfinished (“TRBs”) from the People's Republic of China (“PRC”)” dated January 13, 2009 (“FOP Memorandum”).

• We have revised the international freight surrogate value to reflect CPZ's shipping terms (See Comment 8 and FOP Memorandum).

• We have revised the unit weight for one of CPZ's models (See Comment 9 and Analysis Memorandum).

• We have revised our calculation of inland freight for CPZ's subcontractors (See Comment 10 and Analysis Memorandum).

The PRC-wide rate has also changed for the final results, from 60.95 percent to 92.84 percent. This rate represents the calculated rate for CPZ in these final results and is the highest calculated rate determined in the instant or any previous segment of this proceeding. We will apply the new PRC-wide rate of 92.84 percent to the PRC-wide entity (including Yantai Timken Company Limited (“Yantai Timken”)) for the final results. See “Use of Facts Otherwise Available” and “Selection of the PRC-Wide Rate” sections below. Corroboration of the new PRC-wide rate is not required because this rate is based on, and calculated from, information submitted by CPZ in the course of this administrative review, i.e., it is not secondary information. See 19 CFR 351.308(c) and (d) and section 776(c) of the Tariff Act of 1930, as amended (“the Act”).

Use of Facts Otherwise Available

In the Preliminary Results, the Department found that Yantai Timken did not demonstrate its entitlement to a separate rate, and thus is deemed to be part of the PRC-wide entity. See Preliminary Results at 73 FR 41035. As the Department found that the PRC-wide entity, which includes Yantai Timken, failed to cooperate to the best of its ability in responding to the Department's requests for information and thereby impeded the Department's proceeding, the Department assigned the PRC-wide entity a rate based on adverse facts available (“AFA”) pursuant to sections 776(a)(2)(A), (B), and (C) and section 776(b) of the Act. See Id. The Department did not receive any comments regarding its preliminary application of AFA to the PRC-wide entity. Therefore, for these final results, the Department has not altered its analysis or its decision to apply total AFA to the PRC-wide entity.

Selection of the PRC-Wide Rate

In deciding which facts to use as AFA, section 776(b) of the Act and 19 CFR 351.308(c)(1) authorize the Department to rely on information derived from: (1) the petition; (2) the final determination; (3) a previous administrative review; or (4) other information placed on the record. In selecting a rate for AFA, the Department selects a rate that is sufficiently adverse to ensure that the uncooperative party does not obtain a more favorable result by failing to cooperate than if it had fully cooperated. See the Statement of Administrative Action accompanying the Uruguay Round Agreements Act (“URAA”), H.R. Rep. No. 103-316 at 870 (1994), at 870. For this review, we have used the highest rate on the record of any segment of the proceeding, i.e., the final calculated rate for CPZ in this administrative review. See, e.g., Honey from the People's Republic of China: Final Results and Final Rescission, In Part, of Antidumping Duty Administrative Review, 72 FR 37715 (July 11, 2007). Section 776(c) of the Act requires that, when the Department relies on secondary information rather than on information obtained in the course of a review as facts available, it must, to the extent practicable, corroborate that information from independent sources reasonably at its disposal. As we did not rely upon secondary information, no corroboration was required under section 776(c) of the Act. See 19 CFR 351.308(d) and section 776(c) of the Act.

Final Results Margins

We determine that the following weighted-average percentage margins exist for the POR:

TRBs From the PRC
Producer/Exporter | Weighted-Average Margin (Percent)
Peer Bearing Company Changshan (CPZ) | 92.84
PRC-wide entity* | 92.84
*including Yantai Timken.

Assessment Rates

The Department will determine, and U.S. Customs and Border Protection (“CBP”) shall assess, antidumping duties on all appropriate entries of subject merchandise in accordance with the final results of this review. For assessment purposes, we calculated exporter/importer- (or customer) -specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer- (or customer) -specific assessment rate is de minimis (i.e., less than 0.50 percent), the Department will instruct CBP to assess that importer (or customer's) entries of subject merchandise without regard to antidumping duties. We intend to instruct CBP to liquidate entries containing subject merchandise exported by the PRC-wide entity at the PRC-wide rate we determine in the final results of this review. The Department intends to issue appropriate assessment instructions directly to CBP 15 days after publication of the final results of this review.

Cash Deposit Requirements

The following cash deposit requirements will be effective upon publication of these final results of this administrative review for all shipments of the subject merchandise entered, or withdrawn from warehouse, for consumption on or after the publication date, as provided for by section 751(a)(2)(C) of the Act: 1) for the exporters listed above, the cash deposit rate will be the rates shown for those companies; 2) for previously investigated or reviewed PRC and non-PRC exporters not listed above that have separate rates, the cash deposit rate will continue to be the exporter-specific rate published for the most recent period; 3) for all PRC exporters of subject merchandise which have not been found to be entitled to a separate rate, the cash deposit rate will be the PRC-wide rate of 92.84 percent; and 4) for all non-PRC exporters of subject merchandise which have not received their own rate, the cash deposit rate will be the rate applicable to the PRC exporters that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed within five days of the date of publication of this notice to parties in this proceeding in accordance with 19 CFR 351.224(b).

We are issuing and publishing these final results and notice in accordance with sections 751(a)(1) and 777(i)(1) of the Act.

Dated: January 13, 2009.
Ronald K. Lorentzen,
Acting Assistant Secretary for Import Administration.

Appendix I

Comment 1: Treatment of CPZ's U.S. Sales

Comment 2: Treatment of By-Product Offsets

Comment 3: Calculation of Normal Value Based on Control Number versus Model Number

Comment 4: Treatment of Forging Subcontractor's Factors of Production

Comment 5: Surrogate Value for Steel Scrap

Comment 6: Surrogate Value for Wire Rod

Comment 7: Surrogate Value for Steel Bar

Comment 8: Surrogate Value for International Freight

Comment 9: Calculation of Factors of Production for a Particular Model

Comment 10: Treatment of Inland Freight for Subcontractors

Comment 11: Treatment of Negative Dumping Margins (“Zeroing”)

[FR Doc. E9-1219 Filed 1-21-09; 8:45 am]

BILLING CODE 3510-DS-S